DEPARTMENT OF HEALTH AND HUMAN SERVICES

Centers for Disease Control and Prevention

[CDC-2018-0085, Docket Number NIOSH-319]

Partnership Opportunity To Identify Products for Fentanyl Exposure in Personal Protective Equipment Information Database; Reopening of the Comment Period

AGENCY: National Institute for Occupational Safety and Health (NIOSH) of the Centers for Disease Control and Prevention (CDC), Department of Health and Human Services (HHS).

ACTION: Notice and reopening of comment period.

SUMMARY: On October 18, 2018 the National Institute for Occupational Safety and Health (NIOSH) of the Centers for Disease Control and Prevention (CDC), published a notice in the Federal Register [83 FR 52834] announcing the availability of a Partnership Opportunity to Identify Products for Fentanyl Exposure in Personal Protective Equipment Information Database. Written comments were to be received by November 19, 2018. In response to requests from interested parties, NIOSH is announcing the reopening of the comment period.

DATES: Electronic or written comments must be received by April 1, 2019.

FOR FURTHER INFORMATION CONTACT: ppeconcerns@cdc.gov, NIOSH, National Personal Protective Technology Laboratory, Office of the Director, 626 Cochrans Mill Road, Pittsburgh PA 15236, 1-888-654-2294 (a toll free number).

ADDRESSES: You may submit comments, identified by CDC-2018-0085 and Docket Number NIOSH-319, by either of the following two methods:

• Federal eRulemaking Portal: https://www.regulations.gov. Follow the instructions for submitting comments.

• Mail: National Institute for Occupational Safety and Health, NIOSH Docket Office, 1090 Tusculum Avenue, MS C-34, Cincinnati, Ohio 45226-1998.

Dated: January 23, 2019.
Frank J. Hearl,
Chief of Staff, National Institute for Occupational Safety and Health, Centers for Disease Control and Prevention.

[FR Doc. 2019-00229 Filed 1-30-19; 8:45 am]

BILLING CODE 4163-19-P